AGENCY FOR INTERNATIONAL DEVELOPMENT

Bureau for Democracy, Conflict and Humanitarian Assistance, Office of Food for Peace; Announcement of Draft Pub. L. 480 Title II Guidelines for Cooperating Sponsor Results Reports (FY 2003) and Resource Requests (FY 2005)

Pursuant to the Agricultural Trade Development and Assistance Act of 1954 (Pub. L. 480, as amended), notice is hereby given that the Draft Guidelines for Pub. L. 480 Title II Cooperating Sponsor Results Reports and Resource Requests are being made available to interested parties for the required thirty (30) day comment period.

Individuals who wish to receive a copy of these draft guidelines should contact: Office of Food for Peace, Agency for International Development, RRB 7.06-153, 1300 Pennsylvania Avenue, Washington, DC 20523-7600. Individuals who have questions or comments on the draft guidelines should contact P.E. Balakrishnan at the above address, at (202) 712-1368 or pebalakrishnan@usaid.gov.

The thirty-day comment period will begin on the date that this announcement is published in the Federal Register.

Dated: December 22, 2003.
P.E. Balakrishnan,
Acting Deputy Director, Office of Food for Peace Bureau for Democracy, Conflict and Humanitarian Assistance.

[FR Doc. 04-278 Filed 1-6-04; 8:45 am]

BILLING CODE 6116-01-M